DEPARTMENT OF TRANSPORTATION

Federal Aviation Administration

14 CFR Part 39

[Docket No. FAA-2012-0264; Directorate Identifier 2011-NM-179-AD; Amendment 39-17147; AD 2012-15-17]

RIN 2120-AA64

Airworthiness Directives; Airbus Airplanes

AGENCY: Federal Aviation Administration (FAA), Department of Transportation (DOT).

ACTION: Final rule.

SUMMARY: We are adopting a new airworthiness directive (AD) for all Airbus Model A300 B4-603, B4-605R, and B4-622R airplanes; Model A300 C4-605R Variant F airplanes; and Model A300 F4-600R series airplanes. This AD was prompted by a report that chafing was detected between the autopilot electrical wiring conduit and the wing bottom skin. This AD requires modifying the wiring installation on the right-hand wing. We are issuing this AD to prevent sparking due to electrical chafing when flammable vapors are present in the area, which could cause an uncontrolled fire.

DATES: This AD becomes effective September 12, 2012.

The Director of the Federal Register approved the incorporation by reference of a certain publication listed in this AD as of September 12, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Dan Rodina, Aerospace Engineer, International Branch, ANM-116, Transport Airplane Directorate, FAA, 1601 Lind Avenue SW., Renton, WA 98057-3356; telephone (425) 227-2125; fax (425) 227-1149.

SUPPLEMENTARY INFORMATION:

Discussion

We issued a notice of proposed rulemaking (NPRM) to amend 14 CFR part 39 to include an AD that would apply to the specified products. That NPRM was published in the Federal Register on March 15, 2012 (77 FR 15291). That NPRM proposed to correct an unsafe condition for the specified products. The MCAI states:

During a scheduled general visual inspection in a zone adjacent to a fuel tank (zone 675) chafing was detected between the autopilot electrical wiring conduit and the wing bottom skin.

This condition, in the scope of published FAA SFAR88 [Special Federal Aviation Regulation] and JAA [Joint Aviation Authority] Internal Policy INT/POL/25/12, is considered on ground to be a potential source of explosive condition due to the risk of a spark with electrical wire chafing when flammable vapours are present in the area. If left uncorrected, this condition could lead to an uncontrolled fire.

For the reasons described above, this [EASA] AD requires modification of the wiring installation to improve the routing and the protection of the harnesses in the zone 675/Rib 6 of the Right Hand wing.

You may obtain further information by examining the MCAI in the AD docket.

Comments

We gave the public the opportunity to participate in developing this AD. We considered the comment received.

Request To Extend the Compliance Time

UPS requested that we extend the proposed compliance time. The NPRM (77 FR 15291, March 15, 2012) proposed a compliance time of “within 30 months or 4,500 flight hours after the effective date of this AD,” for modifying the wiring in zone 675 of the right-hand wing. UPS stated that extending the compliance time to “within 40 months or 4,500 flight hours after the effective date of this AD,” would allow it to accomplish the required actions at its heavy maintenance facility during C-check visits. UPS stated that the line maintenance environment is not conducive to this type of work due to the required ground time, labor, and other resources, which are available at its major maintenance facility. UPS stated that its current maintenance program is based on a 30-month C-check interval. UPS also stated that in order to accommodate this modification at C-check in its major maintenance facility, it will need an additional 10 months to allow for planning and preparations, including developing engineering orders, prototyping, obtaining necessary management and finance approvals, parts acquisition, and parts lead-time.

We do not agree to extend the compliance time specified in this final rule. In developing an appropriate compliance time for this action, we considered the urgency associated with the subject unsafe condition, the manufacturer's recommendations, the availability of required parts, and the practical aspect of accomplishing the required modification within a period of time that corresponds to the normal scheduled maintenance for most affected operators. Under the provisions of paragraph (h)(1) of the final rule, we will consider requests for approval of an extension of the compliance time if sufficient data are submitted to substantiate that the new compliance time would provide an acceptable level of safety. We have not changed the AD in this regard.

Conclusion

We reviewed the available data, including the comment received, and determined that air safety and the public interest require adopting the AD as proposed.

Costs of Compliance

We estimate that this AD will affect 132 products of U.S. registry. We also estimate that it will take about 7 work-hours per product to comply with the basic requirements of this AD. The average labor rate is $85 per work-hour. Required parts will cost about $1,720 per product. Where the service information lists required parts costs that are covered under warranty, we have assumed that there will be no charge for these parts. As we do not control warranty coverage for affected parties, some parties may incur costs higher than estimated here. Based on these figures, we estimate the cost of this AD to the U.S. operators to be $305,580, or $2,315 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 15291, March 15, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-15-17 Airbus: Amendment 39-17147. Docket No. FAA-2012-0264; Directorate Identifier 2011-NM-179-AD.

(a) Effective Date

This airworthiness directive (AD) becomes effective September 12, 2012.

(b) Affected ADs

None.

(c) Applicability

This AD applies to Airbus Model A300 B4-603, B4-605R, and B4-622R airplanes; Model A300 C4-605R Variant F airplanes; and Model A300 F4-605R and F4-622R airplanes; certificated in any category; all serial numbers.

(d) Subject

Air Transport Association (ATA) of America Code 92.

(e) Reason

This AD was prompted by a report that chafing was detected between the autopilot electrical wiring conduit and the wing bottom skin. We are issuing this AD to prevent sparking due to electrical chafing when flammable vapors are present in the area, which could cause an uncontrollable fire.

(f) Compliance

You are responsible for having the actions required by this AD performed within the compliance times specified, unless the actions have already been done.

(g) Modification

Within 30 months or 4,500 flight hours after the effective date of this AD, whichever occurs first: Modify the wiring in zone 675 of the right-hand wing, in accordance with the Accomplishment Instructions of Airbus Mandatory Service Bulletin A300-24-6109, dated July 4, 2011.

(h) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to MCAI European Aviation Safety Agency Airworthiness Directive 2011-0161, dated August 26, 2011; and Airbus Mandatory Service Bulletin A300-24-6109, dated July 4, 2011; for related information.

(j) Material Incorporated by Reference

(1) The Director of the Federal Register approved the incorporation by reference (IBR) of the following service information under 5 U.S.C. 552(a) and 1 CFR part 51.

(2) You must use the following service information to do the actions required by this AD, unless the AD specifies otherwise.

(i) Airbus Mandatory Service Bulletin A300-24-6109, dated July 4, 2011.

(3) For service information identified in this AD, contact Airbus SAS—EAW (Airworthiness Office), 1 Rond Point Maurice Bellonte, 31707 Blagnac Cedex, France; telephone +33 5 61 93 36 96; fax +33 5 61 93 44 51; email account.airworth-eas@airbus.com; Internet http://www.airbus.com.

(4) You may review copies of the service information at the FAA, Transport Airplane Directorate, 1601 Lind Avenue SW., Renton, Washington. For information on the availability of this material at the FAA, call 425-227-1221.

(5) You may also review copies of the service information that is incorporated by reference at the National Archives and Records Administration (NARA). For information on the availability of this material at an NARA facility, call 202-741-6030, or go to http://www.archives.gov/federal_register/code_of_federal_regulations/ibr_locations.html.

Issued in Renton, Washington, on July 25, 2012.
Kalene C. Yanamura,
Acting Manager, Transport Airplane Directorate, Aircraft Certification Service.

[FR Doc. 2012-18884 Filed 8-7-12; 8:45 am]

BILLING CODE 4910-13-P